DEPARTMENT OF HOMELAND SECURITY

8 CFR Chapter I

[CIS No. 2555-14; DHS Docket No. USCIS-2016-0006; 1615-AC07]

Ratification of Department Actions

AGENCY: Department of Homeland Security (DHS).

ACTION: Ratification.

SUMMARY: The Department of Homeland Security is publishing notification of the Secretary of Homeland Security's ratification of a rule.

DATES: The ratification was signed on March 31, 2021 and relates back to the original date of the action that it ratifies.

FOR FURTHER INFORMATION CONTACT: Leo (Chip) Boucher, Assistant General Counsel, Administrative Law, Office of the General Counsel, Department of Homeland Security, Washington, DC 20528, (202) 282-9822.

SUPPLEMENTARY INFORMATION: On March 31, 2021, the Secretary of Homeland Security ratified a final rule entitled, EB-5 Immigrant Investor Program Modernization. See 84 FR 35750 (July 24, 2019). The Department is now publishing the ratification in the Federal Register out of an abundance of caution. Neither the ratification nor the publication is a statement that the ratified action would be invalid absent the ratification, whether published or otherwise.

Adam Hunter,
Deputy Assistant Secretary for Immigration Policy, U.S. Department of Homeland Security.

Appendix

[FR Doc. 2021-16330 Filed 7-29-21; 8:45 am]

BILLING CODE 9112-FP-P